OFFICE OF PERSONNEL MANAGEMENT

Excepted Service; Consolidated Listing of Schedules A, B, and C Exceptions

AGENCY: Office of Personnel Management.

ACTION: Notice.

SUMMARY: This provides the consolidated notice of all agency specific excepted authorities, approved by the Office of Personnel Management (OPM), under Schedule A, B, and C, as of June 30, 2018, as required by Civil Service Rule VI, Exceptions from the Competitive Service.

FOR FURTHER INFORMATION CONTACT: Julia Alford, Senior Executive Resources Services, Senior Executive Service and Performance Management, Employee Services, 202-606-2246.

SUPPLEMENTARY INFORMATION: Civil Service Rule VI (5 CFR 6.1) requires the Office of Personnel Management (OPM) to publish notice of exceptions granted under Schedule A, B, and C. Under 5 CFR 213.103(a) it is required that all Schedule A, B, and C appointing authorities available for use by all agencies to be published as regulations in the Federal Register (FR) and the Code of Federal Regulations (CFR). Excepted appointing authorities established solely for use by one specific agency do not meet the standard of general applicability prescribed by the Federal Register Act for regulations published in either the FR or the CFR. Therefore, 5 CFR 213.103(b) requires monthly publication, in the Notices section of the Federal Register, of any Schedule A, B, and C appointing authorities applicable to a single agency. Under 5 CFR 213.103(c) it is required that a consolidated listing of all Schedule A, B, and C authorities, current as of June 30 of each year, be published annually in the Notices section of the Federal Register at www.federalregister.gov/agencies/personnel-management-office. That notice follows. Governmentwide authorities codified in the CFR are not printed in this notice.

When making appointments under an agency-specific authority, agencies should first list the appropriate Schedule A, B, or C, followed by the applicable number, for example: Schedule A, 213.3104(x)(x). Agencies are reminded that all excepted authorities are subject to the provisions of 5 CFR part 302 unless specifically exempted by OPM at the time of approval.

OPM maintains continuing information on the status of all Schedule A, B, and C appointing authorities. Interested parties needing information about specific authorities during the year may obtain information by writing to the Senior Executive Resource Services, Office of Personnel Management, 1900 E Street NW, Room 7412, Washington, DC 20415, or by calling (202) 606-2246.

The following exceptions are current as of June 30, 2018.

Schedule A

03. Executive Office of the President (Sch. A, 213.3103)

(a) Office of Administration—

(1) Not to exceed 75 positions to provide administrative services and support to the White House Office.

(b) Office of Management and Budget—

(1) Not to exceed 20 positions at grades GS-5/15.

(2) Not to Exceed 34 positions that require unique technical skills needed for the re-designing and re-building of digital interfaces between citizens, businesses, and government as a part of Smarter Information Technology Delivery Initiative. This authority may be used to make permanent, time-limited and temporary appointments to Digital Services Expert positions (GS-301) directly related to the implementation of the Smarter Information Technology Delivery Initiative at the GS-14 to 15 level. No new appointments may be made under this authority after September 30, 2017.

(c) Council on Environmental Quality—

(1) Professional and technical positions in grades GS-9 through 15 on the staff of the Council.

(d)-(f) (Reserved)

(g) National Security Council—

(1) All positions on the staff of the Council.

(h) Office of Science and Technology Policy—

(1) Thirty positions of Senior Policy Analyst, GS-15; Policy Analyst, GS-11/14; and Policy Research Assistant, GS-9, for employment of anyone not to exceed 5 years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 10 positions at grades GS-5 through 11 on the staff of the Bureau.

(h) Bureau of Administration—

(1) (Reserved)

(2) One position of the Director, Art in Embassies Program, GM-1001-15.

(3) (Reserved)

05. Department of the Treasury (Sch. A, 213.3105)

(a) Office of the Secretary—

(1) Not to exceed 20 positions at the equivalent of GS-13 through GS-15 or Senior Level (SL) to supplement permanent staff in the study of complex problems relating to international financial, economic, trade, and energy policies and programs of the Government, when filled by individuals with special qualifications for the particular study being undertaken. Employment under this authority may not exceed 4 years.

(2) Covering no more than 100 positions supplementing permanent staff studying domestic economic and financial policy, with employment not to exceed 4 years.

(3) Not to exceed 100 positions in the Office of the Under Secretary for Terrorism and Financial Intelligence.

(4) Up to 35 temporary or time-limited positions at the GS-9 through 15 grade levels to support the organization, design, and stand-up activities for the Consumer Financial Protection Bureau (CFPB), as mandated by Public Law 111-203. This authority may be used for the following series: GS-201, GS-501, GS-560, GS-1035, GS-1102, GS-1150, GS-1720, GS-1801, and GS-2210. No new appointments may be made under this authority after July 21, 2011, the designated transfer date of the CFPB.

(b)-(d) (Reserved)

(e) Internal Revenue Service—

(1) Twenty positions of investigator for special assignments.

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

06. Department of Defense (Sch. A, 213.3106)

(a) Office of the Secretary—

(1)-(5) (Reserved)

(6) One Executive Secretary, US-USSR Standing Consultative Commission and Staff Analyst (SALT), Office of the Assistant Secretary of Defense (International Security Affairs).

(b) Entire Department (including the Office of the Secretary of Defense and the Departments of the Army, Navy, and Air Force)—

(1) Dependent School Systems overseas—Professional positions in Military Dependent School systems overseas.

(2) Positions in Attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after September 30, 2014.

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2017.

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical, or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed 6 years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii—

(1) The Director, Deputy Director, Dean of Academics, Director of College, deputy department chairs, and senior positions of professor, associate professor, and research fellow within the Asia Pacific Center. Appointments may be made not to exceed 3 years and may be extended for periods not to exceed 3 years.

(k) Business Transformation Agency—

(1) Fifty temporary or time-limited (not to exceed four years) positions, at grades GS-11 through GS-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed 5 years, which may be renewed in 1-, 2-, 3-, 4-, or 5-year increments indefinitely thereafter.

(i) (Reserved)

(j) U.S. Military Academy Preparatory School, West Point, New York—

(1) Positions of Academic Director, Department Head, and Instructor.

(k) U.S. Army Command and General Staff College, Fort Leavenworth, Kansas—

(1) Positions of professor, associate professor, assistant professor, and instructor associated with courses of instruction of at least 10 months duration, for employment not to exceed up to 5 years, which may be renewed in 1-, 2-, 3-, 4-, or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) Two hundred positions, serviced by Hill Air Force Base, Utah, engaged in interdepartmental activities in support of national defense projects involving scientific and technical evaluations.

(c) Norton and McClellan Air Force Bases, California—

(1) Not to exceed 20 professional positions, GS-11 through GS-15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5 through GS-15, in the Air Force Office of Special Investigations.

(g) Wright-Patterson Air Force Base, Ohio—

(1) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base, Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed 2 years, but may be extended in 1-year increments for the duration of the in-country program.

(7) Positions necessary throughout DOJ, for the excepted service transfer of NDIC employees hired under Schedule A, 213.3110(d). Authority expires September 30, 2012.

(b) (Reserved)

(c) Drug Enforcement Administration—

(1) (Reserved)

(2) Four hundred positions of Intelligence Research Agent and/or Intelligence Operation Specialist in the GS-132 series, grades GS-9 through GS-15.

(3) Not to exceed 200 positions of Criminal Investigator (Special Agent). New appointments may be made under this authority only at grades GS-7/11.

(d) (Reserved, moved to Justice)

(e) Bureau of Alcohol, Tobacco, and Firearms—

(1) One hundred positions of Criminal Investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after the completion of regulations implementing the Border Patrol Agency Pay Reform Act of 2014 or January 15, 2019.

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

(f) U.S. Citizenship and Immigration Services

(1) Reserved. (Formerly 213.3110(b)(1))

(2) Not to exceed 500 positions of interpreters and language specialists, GS-1040-5/9. (Formerly 213.3110(b)(2))

(3) Reserved. (Formerly 213.3110(b)(3))

(g) U.S. Immigration and Customs Enforcement—

(1) Not to exceed 200 staff positions, GS-15 and below for an emergency staff to provide health related services to foreign entrants. (Formerly 213.3116(b)(16))

(h) Federal Emergency Management Agency—

(1) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort. (Formerly 213.3195(a))

(2) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority. (Formerly 213.3195(b))

(3) Not to exceed 350 professional and technical positions at grades GS-5 through GS-15, or equivalent, in Mobile Emergency Response Support Detachments (MERS). (Formerly 213.3195(c))

(i) U.S. Coast Guard—

(1) Reserved. (Formerly 213.3194(a))

(2) Lamplighters. (Formerly 213.3194(b))

(3) Professors, Associate Professors, Assistant Professors, Instructors, one Principal Librarian, one Cadet Hostess, and one Psychologist (Counseling) at the Coast Guard Academy, New London, Connecticut. (Formerly 213.3194(c))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators, and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond 1 year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development—

(1) (Reserved)

(2) County committeemen to consider, recommend, and advise with respect to the Rural Development program.

(3)-(5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Positions in support of decennial operations (including decennial pre-tests). Appointments may be made on a time limited basis that lasts the duration of decennial operations but may not exceed 7 years. Extensions beyond 7 years may be requested on a case-by-case basis.

(2) Positions of clerk, field representative, field leader, and field supervisor in support of data collection operations (non-decennial operations). Appointments may be made on a permanent or a time-limited basis. Appointments made on a time limited basis may not exceed 4 years. Extensions beyond 4 years may be requested on a case-by-case basis.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved)

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed 2 years and may, with prior OPM approval, be extended for an additional 2 years.

(j) National Oceanic and Atmospheric Administration—

(1)-(2) (Reserved)

(3) All civilian positions on vessels operated by the National Ocean Service.

(4) Temporary positions required in connection with the surveying operations of the field service of the National Ocean Service. Appointment to such positions shall not exceed 8 months in any 1 calendar year.

(k) (Reserved)

(l) National Telecommunication and Information Administration—

(1) Thirty-eight professional positions in grades GS-13 through GS-15.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed 4 years of service in health manpower shortage areas.

(11)-(15) (Reserved)

(c)-(e) (Reserved)

(f) The President's Council on Physical Fitness—

(1) Four staff assistants.

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Environmental Protection Agency (sch. A, 213.3118)

24. Board of Governors, Federal Reserve System (Sch. A, 213.3124)

(a) All positions

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Vietnam Era Veterans Readjustment Counseling Service—

(1) Not to exceed 600 positions at grades GS-3 through GS-11, involved in the Department's Vietnam Era Veterans Readjustment Counseling Service.

(e) Not to Exceed 75 positions that require unique technical skills needed for the re-designing and re-building of digital interfaces between citizens, businesses, and government as a part of Smarter Information Technology Delivery Initiative. This authority may be used to make permanent, time-limited and temporary appointments to non-supervisory Digital Services Expert positions (GS-301) directly related to the implementation of the Smarter Information Technology Delivery Initiative at the GS-15 level. No new appointments may be made under this authority after September 30, 2017.

32. Small Business Administration (Sch. A, 213.3132)

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

33. Federal Deposit Insurance Corporation (Sch. A, 213.3133)

(a)-(b) (Reserved)

(c) Temporary or time-limited positions that are directly related with resolving failing insured depository institutions; financial companies; or brokers and dealers; covered by the Dodd-Frank Wall Street Reform and Consumer Protection Act, including but not limited to, the marketing and sale of institutions and any associated assets; paying insured depositors; and managing receivership estates and all associated receivership management activities, up to termination. Time limited appointments under this authority may not exceed 7 years.

36. U.S. Soldiers' and Airmen's Home (Sch. A, 213.3136)

(a) (Reserved)

(b) Positions when filled by member-residents of the Home.

37. General Services Administration (Sch. A, 213.3137)

(a) Not to Exceed 203 positions that require unique technical skills needed for the re-designing and re-building of digital interfaces between citizens, businesses, and government as a part of Smarter Information Technology Delivery Initiative. This authority may be used nationwide to make permanent, time-limited and temporary appointments to Digital Services Expert positions (GS-301) directly related to the implementation of the Smarter Information Technology Delivery Initiative at the GS-11 to 15 level. No new appointments may be made under this authority after September 30, 2017.

46. Selective Service System (Sch. A, 213.3146)

(a) State Directors

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia (Sch. A, 213.3166)

(a) (Reserved, expired 3/31/2004)

70. Millennium Challenge Corporation (MCC) (Sch. A, 213.3170)

(a) (Reserved, expired 9/30/2007)

(b)

(1) Positions of Resident Country Director and Deputy Resident Country Director, Threshold Director and Deputy Threshold Director. The length of appointments will correspond to the length or term of the compact agreements made between the MCC and the country in which the MCC will work, plus one additional year to cover pre- and post-compact agreement related activities.

74. Smithsonian Institution (Sch. A, 213.3174)

(a) (Reserved)

(b) Smithsonian Tropical Research Institute—All positions located in Panama which are part of or which support the Smithsonian Tropical Research Institute.

(c) National Museum of the American Indian—Positions at GS-15 and below requiring knowledge of, and experience in, tribal customs and culture. Such positions comprise approximately 10 percent of the Museum's positions and, generally, do not include secretarial, clerical, administrative, or program support positions.

75. Woodrow Wilson International Center for Scholars (Sch. A, 213.3175)

(a) One Asian Studies Program Administrator, one International Security Studies Program Administrator, one Latin American Program Administrator, one Russian Studies Program Administrator, two Social Science Program Administrators, one Middle East Studies Program Administrator, one African Studies Program Administrator, one Global Sustainability and Resilience Program Administrator, one Canadian Studies Program Administrator; one China Studies Program Administrator, and one Science, Technology and Innovation Program Administrator.

78. Community Development Financial Institutions Fund (Sch. A, 213.3178)

(a) (Reserved, expired 9/23/1998)

80. Utah Reclamation and Conservation Commission (Sch. A, 213.3180)

(a) Executive Director

82. National Foundation on the Arts and the Humanities (Sch. A, 213.3182)

(a) National Endowment for the Arts—

(1) Artistic and related positions at grades GS-13 through GS-15 engaged in the review, evaluation and administration of applications and grants supporting the arts, related research and assessment, policy and program development, arts education, access programs and advocacy, or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

(f) Up to 40 positions at the GS-13 through 15 grade levels and within authorized SL allocations necessary to support the following credit agency programs of the Department: The Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-301, Credit Budgeting Team Lead GS-1160, Credit Budgeting Financial Analysts GS-1160, Portfolio Monitoring Lead SL-1160, Portfolio Monitoring Financial Analyst GS-1160, Financial Analyst GS-1160. No new appointments may be made under this authority after December 31, 2014.

95. (Reserved)

Schedule B

03. Executive Office of the President (Sch. B, 213.3203)

(a) (Reserved)

(b) Office of the Special Representative for Trade Negotiations—

(1) Seventeen positions of economist at grades GS-12 through GS-15.

04. Department of State (Sch. B, 213.3204)

(a)(1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12 to GS-15 when filled by persons having special qualifications in foreign policy matters. Total employment under this authority may not exceed 4 years.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) (Reserved) Transferred to 213.3211(b)

(e) (Reserved) Transferred to 213.3210(f)

06. Department of Defense (Sch. B, 213.3206)

(a) Office of the Secretary—

(1) (Reserved)

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed 3 years, which may be renewed in any increment from 1 to 6 years indefinitely thereafter.

(d) General—

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed 4 years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed 3 years, with an option to renew or extend the appointments in increments of 1-, 2-, or 3-years indefinitely thereafter.

(b)-(c) (Reserved)

(d) Air University—Positions of Instructor or professional academic staff at the Air University associated with courses of instruction of varying durations, for employment not to exceed 3 years, which may be renewed for an indefinite period thereafter.

(e) U.S. Air Force Academy, Colorado—One position of Director of Development and Alumni Programs, GS-301-13.

10. Department of Justice (Sch. B, 213.3210)

(a) Drug Enforcement Administration—Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved)

(c) Not to exceed 400 positions at grades GS-5 through 15 assigned to regional task forces established to conduct special investigations to combat drug trafficking and organized crime.

(d) (Reserved)

(e) United States Trustees—Positions, other than secretarial, GS-6 through GS-15, requiring knowledge of the bankruptcy process, on the staff of the offices of United States Trustees or the Executive Office for U.S. Trustees.

(f) Bureau of Alcohol, Tobacco, and Firearms

(1) Positions, grades GS-5 through GS-12 (or equivalent), of Criminal Investigator. Service under this authority may not exceed 3 years and 120 days.

11. Department of Homeland Security (Sch. B, 213.3211)

(a) Coast Guard.

(1) (Reserved)

(b) Secret Service—Positions concerned with the protection of the life and safety of the President and members of his immediate family, or other persons for whom similar protective services are prescribed by law, when filled in accordance with special appointment procedures approved by OPM. Service under this authority may not exceed:

(1) A total of 4 years; or

(2) 120 days following completion of the service required for conversion under Executive Order 11203.

13. Department of Agriculture (Sch. B, 213.3213)

(a) Foreign Agricultural Service—

(1) Positions of a project nature involved in international technical assistance activities. Service under this authority may not exceed 5 years on a single project for any individual unless delayed completion of a project justifies an extension up to but not exceeding 2 years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

(2) Not to exceed 55 Executive Director positions, GM-301-14/15, with the State Rural Development Councils in support of the Presidential Rural Development Initiative.

14. Department of Commerce (Sch. B, 213.3214)

(a) Bureau of the Census—

(1) (Reserved)

(2) Not to exceed 50 Community Services Specialist positions at the equivalent of GS-5 through 12.

(b)-(c) (Reserved)

(d) National Telecommunications and Information Administration—

(1) Not to exceed 10 Telecommunications Policy Analysts, grades GS-11 through 15. Employment under this authority may not exceed 2 years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

27. Department of Veterans Affairs (Sch. B, 213.3227)

(a) Not to exceed 800 principal investigatory, scientific, professional, and technical positions at grades GS-11 and above in the medical research program.

(b) Not to exceed 25 Criminal Investigator (Undercover) positions, GS-1811, in grades 5 through 12, conducting undercover investigations in the Veterans Health Administration (VA) supervised by the VA, Office of Inspector General. Initial appointments shall be greater than 1 year, but not to exceed 4 years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40. National Archives and Records Administration (Sch. B, 213.3240)

(a) Executive Director, National Historical Publications and Records Commission.

48. National Aeronautics and Space Administration (Sch. B, 213.3248)

(a) Not to exceed 40 positions of Astronaut Candidates at grades GS-11 through 15. Employment under this authority may not exceed 3 years.

50. Consumer Financial Protection Bureau (Sch. B, 213.3250)

(a) One position of Deputy Director; and one position of Associate Director of the Division of Supervision, Enforcement, and Fair Lending.

55. Social Security Administration (Sch. B, 213.3255)

(a) (Reserved)

74. Smithsonian Institution (Sch. B, 213.3274)

(a) (Reserved)

(b) Freer Gallery of Art—

(1) Not to exceed four Oriental Art Restoration Specialists at grades GS-9 through GS-15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11 through GS-15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13 and GS-14. Appointments may be made for any period up to 3 years and may be extended without prior approval for any individual. Not more than half of the authorized faculty positions at any one Executive Seminar Center may be filled under this authority.

(b) Center for Leadership Development—No more than 72 positions of faculty members at grades GS-13 through GS-15. Initial appointments under this authority may be made for any period up to 3 years and may be extended in 1, 2, or 3 year increments.

Schedule C
Agency name | Organization name | Position title | Authorization No. | Effective date
DEPARTMENT OF AGRICULTURE | Office of Animal and Plant Health Inspection Service | Confidential Assistant | DA180131 | 06/01/2018
| Farm Service Agency | State Director—New Jersey | DA180077 | 11/09/2017
|  | State Executive Director (11) | DA180104 | 01/26/2018
|  |  | DA180114 | 01/26/2018
|  |  | DA180011 | 10/20/2017
|  |  | DA180014 | 10/20/2017
|  |  | DA180026 | 10/20/2017
|  |  | DA170200 | 10/23/2017
|  |  | DA180038 | 10/23/2017
|  |  | DA180024 | 11/03/2017
|  |  | DA180066 | 11/06/2017
|  |  | DA180009 | 11/08/2017
|  |  | DA180073 | 11/13/2017
|  | State Executive Director—Alabama | DA180049 | 11/27/2017
|  | State Executive Director—Alaska | DA180039 | 10/23/2017
|  | State Executive Director—Arizona | DA180109 | 01/16/2018
|  | State Executive Director—Arkansas | DA180006 | 10/20/2017
|  | State Executive Director—California | DA180062 | 11/06/2017
|  | State Executive Director—Delaware | DA180140 | 03/23/2018
|  | State Executive Director—Georgia | DA180031 | 10/23/2017
|  | State Executive Director—Hawaii | DA180084 | 11/13/2017
|  | State Executive Director—Illinois (2) | DA180035 DA180092 | 10/20/2017 11/13/2017
|  | State Executive Director—Indiana | DA180010 | 10/20/2017
|  | State Executive Director—Iowa | DA180046 | 10/20/2017
|  | State Executive Director—Kansas | DA170197 | 11/03/2017
|  | State Executive Director—Kentucky | DA180007 | 10/20/2017
|  | State Executive Director—Louisiana | DA170201 | 10/30/2017
|  | State Executive Director—Maine | DA180015 | 10/20/2017
|  | State Executive Director—Michigan | DA180028 | 10/20/2017
|  | State Executive Director—Mississippi | DA180013 | 10/20/2017
|  | State Executive Director—Nebraska | DA180068 | 11/06/2017
|  | State Executive Director—Nevada | DA180043 | 10/20/2017
|  | State Executive Director—New York | DA180058 | 11/03/2017
|  | State Executive Director—North Dakota | DA180067 | 11/06/2017
|  | State Executive Director—Ohio | DA180004 | 11/09/2017
|  | State Executive Director—Oklahoma | DA180022 | 10/20/2017
|  | State Executive Director—Oregon | DA180059 | 11/03/2017
|  | State Executive Director—Pennsylvania | DA180086 | 11/09/2017
|  | State Executive Director—Rhode Island | DA180170 | 04/20/2018
|  | State Executive Director—South Dakota | DA180075 | 11/13/2017
|  | State Executive Director—Tennessee | DA180061 | 11/03/2017
|  | State Executive Director—Utah | DA180065 | 11/06/2017
|  | State Executive Director—Vermont | DA180085 | 11/09/2017
|  | State Executive Director—Virginia | DA180023 | 10/20/2017
|  | State Executive Director—Washington | DA170190 | 09/13/2017
|  | State Executive Director—West Virginia | DA180107 | 01/26/2018
|  | State Executive Director—Wisconsin | DA170205 | 10/20/2017
|  | State Executive Director—Wyoming (2) | DA180036 DA180091 | 10/23/2017 11/13/2017
|  | State Executive Director, Idaho | DA180044 | 11/03/2017
|  | State Executive Director, North Carolina | DA180070 | 11/29/2017
| Office of Food and Nutrition Service | Confidential Assistant | DA170196 | 10/06/2017
| Office of Forest Service | Senior Advisor | DA180127 | 03/08/2018
| Office of Communications | Advance Lead | DA180152 | 03/29/2018
|  | Deputy Press Secretary | DA180113 | 02/14/2018
|  | Press Assistant (2) | DA180165 | 04/27/2018
|  |  | DA170175 | 08/09/2017
|  | Press Secretary | DA170169 | 07/21/2017
|  | Speechwriter | DA170174 | 08/09/2017
| Office of the Assistant Secretary for Congressional Relations | Associate Director Confidential Assistant (2) | DA180159 DA180149 | 04/20/2018 04/13/2018
|  |  | DA180019 | 10/05/2017
|  | Deputy Director for Intergovernmental Affairs | DA170172 | 08/03/2017
|  | Director, Intergovernmental Affairs | DA180174 | 05/08/2018
|  | Policy and Congressional Advisor | DA180175 | 06/08/2018
|  | Senior Advisor | DA170186 | 09/22/2017
|  | Special Assistant | DA180056 | 11/03/2017
|  | Staff Assistant (3) | DA180119 | 02/22/2018
|  |  | DA180118 | 02/27/2018
|  |  | DA180157 | 04/13/2018
| Office of the Assistant to the Secretary for Rural Development | Confidential Assistant Chief of Staff | DA180129 DA180100 | 02/27/2018 12/15/2017
| Office of the General Counsel | Senior Counsel | DA180098 | 12/08/2017
| Office of the Secretary | Confidential Assistant | DA180115 | 01/23/2018
|  | Director of Advance | DA180151 | 03/28/2018
|  | Director of Policy Coordination | DA180158 | 05/08/2018
|  | Director of the Office of Faith Based and Neighborhood Outreach | DA180101 | 12/21/2017
|  | Director, Tribal Relations | DA180096 | 12/05/2017
|  | Special Assistant (2) | DA180102 DA170176 | 02/06/2018 09/19/2017
|  | Staff Assistant (2) | DA180143 | 03/29/2018
|  |  | DA170193 | 09/22/2017
|  | White House Liaison | DA170173 | 08/03/2017
| Office of the Under Secretary for Farm Production and Conservation | Staff Assistant | DA180181 | 05/16/2018
| Office of the Under Secretary for Food Safety | Confidential Assistant | DA180148 | 05/24/2018
| Office of the Under Secretary for Food, Nutrition and Consumer Services | Confidential Assistant | DA170195 | 10/30/2017
| Office of the Under Secretary for Marketing and Regulatory Programs | Confidential Assistant | DA180093 | 11/29/2017
| Office of Under Secretary for Natural Resources and Environment | Staff Assistant | DA180169 | 05/24/2018
| Office of Rural Business Service | Senior Advisor | DA180166 | 04/27/2018
| Office of Rural Housing Service | Chief of Staff | DA180055 | 12/05/2017
|  | Confidential Assistant (2) | DA180128 | 02/28/2018
|  |  | DA180150 | 03/28/2018
|  | Senior Advisor (2) | DA180125 | 02/20/2018
|  |  | DA180095 | 11/27/2017
|  | State Director (5) | DA180017 | 10/20/2017
|  |  | DA180146 | 05/16/2018
|  |  | DA180020 | 10/23/2017
|  |  | DA180025 | 10/23/2017
|  |  | DA180064 | 11/06/2017
|  | State Director—Alabama | DA180057 | 11/07/2017
|  | State Director—Alaska | DA170204 | 10/23/2017
|  | State Director—Arizona | DA180052 | 10/27/2017
|  | State Director—Arkansas | DA180003 | 10/20/2017
|  | State Director—California | DA180063 | 11/06/2017
|  | State Director—Florida | DA180074 | 11/09/2017
|  | State Director—Hawaii | DA180079 | 11/09/2017
|  | State Director—Idaho | DA170185 | 08/30/2017
|  | State Director—Illinois (2) | DA180034 | 10/23/2017
|  |  | DA180090 | 11/13/2017
|  | State Director—Indiana | DA180078 | 11/09/2017
|  | State Director—Iowa | DA170202 | 10/23/2017
|  | State Director—Kansas | DA180060 | 11/03/2017
|  | State Director—Kentucky | DA180002 | 10/23/2017
|  | State Director—Louisiana | DA180126 | 05/30/2018
|  | State Director—Maine | DA180030 | 11/01/2017
|  | State Director—Massachusetts | DA180012 | 10/20/2017
|  | State Director—Michigan | DA180001 | 10/20/2017
|  | State Director—Minnesota | DA180029 | 11/01/2017
|  | State Director—Mississippi | DA180027 | 10/23/2017
|  | State Director—Missouri | DA180040 | 10/20/2017
|  | State Director—Nebraska | DA180050 | 11/07/2017
|  | State Director—Nevada | DA180042 | 10/20/2017
|  | State Director—New Mexico | DA180018 | 11/09/2017
|  | State Director—North Carolina | DA180072 | 11/09/2017
|  | State Director—North Dakota | DA180089 | 11/16/2017
|  | State Director—Ohio | DA180081 | 11/09/2017
|  | State Director—Oklahoma | DA180080 | 11/09/2017
|  | State Director—Oregon | DA180008 | 10/20/2017
|  | State Director—Pennsylvania | DA180032 | 10/20/2017
|  | State Director—Puerto Rico | DA180168 | 04/16/2018
|  | State Director—South Carolina | DA180071 | 11/06/2017
|  | State Director—South Dakota | DA180083 | 11/09/2017
|  | State Director—Tennessee | DA180048 | 11/03/2017
|  | State Director—Texas | DA170203 | 11/09/2017
|  | State Director—Utah | DA180069 | 11/06/2017
|  | State Director—Virginia | DA180088 | 11/09/2017
|  | State Director—Washington | DA180037 | 10/23/2017
|  | State Director—West Virginia | DA180041 | 10/23/2017
|  | State Director—Wisconsin | DA180087 | 11/09/2017
|  | State Director—Wyoming | DA180016 | 10/23/2017
|  | State Director, New Hampshire | DA180076 | 11/09/2017
| Office of Rural Utilities Service | Strategic Program Advisor | DA180185 | 05/08/2018
APPALACHIAN REGIONAL COMMISSION | Appalachian Regional Commission | Program Analyst | AP180001 | 05/25/2018
BROADCASTING BOARD OF GOVERNORS | Broadcasting Board of Governors | Senior Advisor Special Advisor for Strategy | IB170005 IB170006 | 07/11/2017 09/11/2017
DEPARTMENT OF COMMERCE | Office of Advocacy Center | Policy Assistant | DC180009 | 11/14/2017
| Office of the Assistant Secretary Legislative and Intergovernmental Affairs | Confidential Assistant | DC170155 | 08/04/2017
| Bureau of Industry and Security | Director of Congressional and Public Affairs | DC180149 | 06/13/2018
|  | Special Advisor | DC170158 | 10/23/2017
| Office of Director General of the United States and Foreign Commercial Service and Assistant Secretary for Global Markets | Senior Director Senior Advisor for China | DC180011 DC180063 | 11/03/2017 12/15/2017
| Immediate Office | Special Advisor | DC180001 | 10/18/2017
| Office of International Trade Administration | Special Assistant | DC180142 | 05/25/2018
| Office of Executive Secretariat | Confidential Assistant | DC180136 | 06/01/2018
| Associate Director, Office of Executive Secretariat | DC180108 | 06/13/2018
| Office of Legislative and Intergovernmental Affairs | Associate Director for Oversight | DC180073 | 01/18/2018
| Director of Intergovernmental Affairs | DC180141 | 06/05/2018
| Office of Policy and Strategic Planning | Policy Assistant | DC170164 | 10/05/2017
| Office of Public Affairs | Deputy Press Secretary | DC180147 | 06/08/2018
| Office of Scheduling and Advance | Advance Assistant | DC180076 | 02/22/2018
|  | Senior Scheduler | DC180083 | 02/22/2018
|  | Scheduler | DC170146 | 07/05/2017
|  | Deputy Director of Protocol | DC170167 | 10/31/2017
| Office of the Chief of Staff | Confidential Assistant | DC180104 | 03/19/2018
| Office of the Deputy Assistant Secretary | Special Advisor Senior Advisor and Director of Strategic Initiatives | DC180123 DC180148 | 05/08/2018 06/08/2018
| Office of the Director | Chief of Congressional Affairs | DC180090 | 03/12/2018
|  | Special Advisor | DC170169 | 10/04/2017
| Office of the General Counsel | Senior Counsel (2) | DC180130 DC180131 | 04/20/2018 04/20/2018
| Office of the Under Secretary | Senior Advisor | DC180100 | 03/29/2018
|  | Senior Advisor for International Trade Administration | DC180003 | 10/24/2017
|  | Senior Advisor for Advance | DC180004 | 10/24/2017
| Office of Under Secretary | Policy Advisor | DC180053 | 12/20/2017
|  | Special Advisor (2) | DC180052 DC180055 | 11/27/2017 12/20/2017
| Office of White House Liaison | Confidential Assistant (2) | DC180087 DC180155 | 02/22/2018 06/21/2018
|  | Deputy Director, Office of White House Liaison | DC170168 | 10/11/2017
| Office of Patent and Trademark Office | Chief Communications Officer | DC180114 | 03/20/2018
COMMISSION ON CIVIL RIGHTS | Office of Commission on Civil Rights | Special Assistant | CC180001 | 04/20/2018
COMMODITY FUTURES TRADING COMMISSION | Office of the Chief Economist | Chief Economist | CT170011 | 07/07/2017
CONSUMER PRODUCT SAFETY COMMISSION | Office of Commissioners | Special Assistant (Legal) (3) | PS180002 PS170005 | 01/10/2018 08/30/2017
|  |  | PS170006 | 08/30/2017
|  | Executive Assistant | PS180001 | 10/11/2017
| Office of Communications | Supervisory Public Affairs Specialist | PS170009 | 01/10/2018
DEPARTMENT OF DEFENSE | Office of the Assistant Secretary of Defense (Asian and Pacific Security Affairs) | Special Assistant (Afghanistan, Pakistan, and Central Asia) Special Assistant (South and Southeast Asia) | DD170189 DD170219 | 07/05/2017 08/25/2017
|  | Special Assistant for East Asia | DD170225 | 09/14/2017
|  |  | DD170236 | 10/11/2017
| Office of the Assistant Secretary of Defense (Homeland Defense and Global Security) | Special Assistant (Cyber) Special Assistant for Defense Continuity and Mission Assurance | DD170198 DD170216 | 07/31/2017 08/04/2017
| Office of the Assistant Secretary of Defense (International Security Affairs) | Special Assistant for African Affairs Special Assistant for Middle East (3) | DD180002 DD170209 DD170212 | 10/18/2017 08/04/2017 08/08/2017
|  |  | DD180004 | 11/01/2017
|  | Special Assistant for Russia, Ukraine and Eurasia | DD170208 | 08/04/2017
| Office of the Assistant Secretary of Defense (Legislative Affairs) | Director of Strategic Communications for Legislative Affairs | DD180067 | 03/16/2018
|  | Special Assistant (Legislative Affairs) (5) | DD180074 DD180091 | 03/22/2018 06/08/2018
|  |  | DD180093 | 06/08/2018
|  |  | DD170175 | 08/04/2017
|  |  | DD170161 | 10/03/2017
|  | Special Assistant for Installations, Environment, and Energy | DD170235 | 10/06/2017
| Office of the Assistant Secretary of Defense (Manpower and Reserve Affairs) | Confidential Assistant for Manpower and Reserve Affairs Special Assistant for Manpower and Reserve Affairs | DD170210 DD170215 | 08/04/2017 08/09/2017
| Office of the Assistant Secretary of Defense (Special Operations/Low Intensity Conflict) | Special Assistant and Combating Terrorism (2) Special Assistant (Stability and Humanitarian Affairs) (2) | DD180028 DD180029 DD170191 DD170217 | 01/18/2018 01/23/2018 07/07/2017 08/04/2017
|  | Special Assistant (Counternarcotic and Global Threats) | DD180003 | 09/21/2017
|  | Special Assistant for Special Operations and Combating Terrorism (2) | DD180032 DD170229 | 12/20/2017 09/20/2017
| Office of the Assistant to the Secretary of Defense (Public Affairs) | Special Assistant for Public Affairs | DD170233 | 10/06/2017
| Office of the Chief Management Officer | Special Assistant (2) | DD180078 DD180099 | 04/11/2018 06/13/2018
| Office of the Secretary | Director of Communications | DD180072 | 03/29/2018
| Office of the Secretary of Defense | Advance Officer (3) | DD170139 | 08/30/2017
|  |  | DD170222 | 08/31/2017
|  |  | DD180027 | 12/20/2017
|  | Director of Operations/Confidential Assistant | DD170205 | 08/04/2017
|  | Director, Travel Operations | DD170203 | 08/04/2017
|  | Protocol Officer (2) | DD180015 DD180018 | 11/09/2017 11/15/2017
|  | Reader—Special Assistant | DD170099 | 10/23/2017
|  | Special Assistant (2) | DD180075 DD170168 | 03/27/2018 07/06/2017
|  | Speechwriter | DD180034 | 12/21/2017
| Office of the Under Secretary of Defense (Acquisition, Technology, and Logistics) | Special Assistant (Manufacturing and Industrial Base Policy) Director of Operations for Research and Engineering | DD180051 DD180065 | 02/14/2018 03/16/2018
|  | Special Assistant (Logistics and Materiel Readiness) | DD180086 | 05/08/2018
|  | Special Assistant for Acquisition | DD170221 | 08/30/2017
| Office of the Under Secretary of Defense (Comptroller) | Special Assistant (Comptroller) (3) | DD180042 DD180039 | 01/30/2018 01/31/2018
|  |  | DD180055 | 01/31/2018
| Office of the Under Secretary of Defense (Personnel and Readiness) | Director of Communications for Personnel and Readiness Special Assistant | DD180080 DD180083 | 04/06/2018 04/20/2018
|  | Special Assistant (Personnel and Readiness) | DD170223 | 09/12/2017
|  | Senior Advisor (Personnel and Readiness) | DD180014 | 10/30/2017
| Office of the Under Secretary of Defense (Policy) | Special Assistant Special Assistant for Homeland Defense and Defense Support of Civil Authorities | DD170201 DD180066 | 07/21/2017 03/19/2018
|  | Special Assistant for Policy | DD180026 | 12/15/2017
|  | Special Assistant (Afghanistan, Pakistan and Central Asia) | DD180056 | 02/22/2018
|  | Special Assistant (East Asia) | DD170202 | 07/21/2017
|  | Special Assistant (Europe and North Atlantic Treaty Organization) | DD180024 | 12/15/2017
|  | Special Assistant (Russia, Ukraine and Eurasia Policy) | DD180059 | 02/14/2018
|  | Special Assistant (Space Policy) | DD180041 | 01/30/2018
|  | Special Assistant (Special Operations and Counterterrorism) | DD180043 | 01/31/2018
|  | Special Assistant, Defeat Islamic State of Iraq and Syria Task Force | DD180013 | 11/06/2017
| Washington Headquarters Services | Defense Fellow (8) | DD180008 | 02/05/2018
|  |  | DD180058 | 02/06/2018
|  |  | DD180060 | 03/16/2018
|  |  | DD180076 | 03/28/2018
|  |  | DD170194 | 07/14/2017
|  |  | DD170226 | 09/14/2017
|  |  | DD180009 | 10/31/2017
|  |  | DD180017 | 11/02/2017
|  | Staff Assistant | DD170185 | 07/05/2017
DEPARTMENT OF THE AIR FORCE | Office of Deputy Under Secretary (International Affairs) | Special Assistant | DF170014 | 10/30/2017
| Office of Assistant Secretary Air Force for Financial Management and Comptroller | Financial Specialist | DF170013 | 09/06/2017
| Office of Assistant Secretary of the Air Force for Manpower and Reserve Affairs | Special Assistant | DF180003 | 10/23/2017
| Office of the Secretary | Special Assistant and Speechwriter | DF180016 | 03/29/2018
|  | Special Assistant (3) | DF180021 | 06/01/2018
|  |  | DF170010 | 07/26/2017
|  |  | DF180005 | 11/03/2017
| Office of the Under Secretary | Special Assistant | DF180004 | 11/09/2017
DEPARTMENT OF THE ARMY | Office Assistant Secretary Army (Civil Works) | Special Assistant (Civil Works) (2) | DW180021 DW180032 | 04/06/2018 05/24/2018
|  | Special Assistant (Strategy and Acquisition Reform) | DW180031 | 05/16/2018
| Office Assistant Secretary Army (Financial Management and Comptroller) | Special Assistant (Financial Management and Comptroller) | DW170026 | 08/25/2017
| Office Assistant Secretary Army (Installations, Energy and Environment) | Confidential Assistant (Installations, Energy and Environment) Special Assistant (Installations, Energy and Environment) | DW180037 DW180003 | 06/21/2018 10/26/2017
| Office Assistant Secretary Army (Manpower and Reserve Affairs) | Special Assistant (Manpower and Reserve Affairs) (2) | DW170041 DW180033 | 02/27/2018 05/16/2018
| Office Deputy Under Secretary of Army | Personal and Confidential Assistant | DW170025 | 07/06/2017
DEPARTMENT OF THE NAVY | Office of the Assistant Secretary of Navy (Energy, Installations and Environment) | Special Assistant | DN170025 | 08/29/2017
| Office of the Assistant Secretary of Navy (Financial Management and Comptroller) | Special Assistant | DN170020 | 08/17/2017
| Office of the Assistant Secretary of Navy (Manpower and Reserve Affairs) | Special Assistant (Manpower and Reserve Affairs) | DN170024 | 08/29/2017
| Office of the Under Secretary of the Navy | Special Assistant for Financial Management and Comptroller | DN180014 | 03/16/2018
|  | Special Assistant | DN170022 | 08/17/2017
| Department of the Navy | Special Assistant | DN180003 | 10/23/2017
DEPARTMENT OF EDUCATION | Office for Civil Rights | Attorney Advisor | DB170140 | 09/05/2017
| Office of Career Technical and Adult Education | Special Assistant Confidential Assistant | DB170127 DB180017 | 07/21/2017 12/01/2017
| Office of Communications and Outreach | Confidential Assistant (5) | DB180042 DB180046 | 04/27/2018 05/24/2018
|  |  | DB170134 | 08/11/2017
|  |  | DB170141 | 09/11/2017
|  |  | DB180004 | 10/13/2017
|  | Special Assistant (2) | DB180014 | 11/13/2017
|  |  | DB180013 | 12/01/2017
| Office of Elementary and Secondary Education | Confidential Assistant (3) | DB180023 DB180026 | 01/18/2018 02/06/2018
|  |  | DB180045 | 06/01/2018
| Office of Legislation and Congressional Affairs | Confidential Assistant Special Assistant (Supervisory) | DB170145 DB180025 | 10/13/2017 12/21/2017
| Office of Planning, Evaluation and Policy Development | Confidential Assistant (2) | DB170146 DB180020 | 10/11/2017 12/19/2017
| Office of Postsecondary Education | Senior Advisor | DB180033 | 02/14/2018
|  | Confidential Assistant | DB170137 | 09/06/2017
| Office of Special Education and Rehabilitative Services | Confidential Assistant | DB180024 | 01/18/2018
| Office of the General Counsel | Attorney Advisor (3) | DB180039 | 04/27/2018
|  |  | DB170132 | 08/07/2017
|  |  | DB170144 | 10/05/2017
| Office of the Secretary | Confidential Assistant (4) | DB170120 | 07/07/2017
|  |  | DB170135 | 08/02/2017
|  |  | DB180010 | 11/09/2017
|  |  | DB180011 | 11/09/2017
|  | Confidential Assistant (Protocol) | DB180041 | 04/09/2018
|  | Executive Director, White House Initiative on Asian Americans and Pacific Islanders | DB180009 | 11/03/2017
|  | Special Assistant (4) | DB170136 | 08/04/2017
|  |  | DB170138 | 08/17/2017
|  |  | DB180005 | 10/26/2017
|  |  | DB180003 | 11/20/2017
| Office of the Under Secretary | Executive Director, White House Initiatives on Educational Excellence for Hispanics | DB180029 | 01/31/2018
|  | Executive Director, White House Initiative on Historically Black Colleges and Universities | DB180032 | 02/12/2018
|  | Confidential Assistant | DB180050 | 06/21/2018
|  | Special Assistant (Supervisory) (2) | DB170139 DB180008 | 08/25/2017 10/30/2017
DEPARTMENT OF ENERGY | Office of Advanced Research Projects Agency—Energy | Executive Support Specialist Senior Advisor and Chief of Staff | DE180090 DE170187 | 05/17/2018 07/31/2017
| Office of the Assistant Secretary for Congressional and Intergovernmental Affairs | Special Assistant Senior Legislative Advisor Senior Advisor | DE180007 DE180042 DE180106 | 01/30/2018 01/30/2018 06/08/2018
|  | External Affairs Specialist | DE180102 | 06/14/2018
|  | Director of External Affairs | DE170225 | 10/23/2017
| Office of the Assistant Secretary for Electricity Delivery and Energy Reliability | Senior Advisor for External Affairs Chief of Staff | DE180024 DE180045 | 01/26/2018 02/13/2018
| Office of the Assistant Secretary for Energy Efficiency and Renewable Energy | Special Assistant Senior Advisor | DE180086 DE170189 | 06/08/2018 09/06/2017
| Office of the Assistant Secretary for Environmental Management | Senior Advisor | DE180105 | 05/23/2018
| Office of the Assistant Secretary for Fossil Energy | Senior Advisor | DE180060 | 03/23/2018
| Office of the Assistant Secretary for International Affairs | Senior Advisor Senior Advisor for Operations | DE180094 DE180092 | 06/14/2018 06/21/2018
|  | Senior Advisor and Chief of Staff | DE170224 | 10/05/2017
| Office of the Associate Under Secretary for Environment, Health, Safety and Security | Senior Advisor—Veterans Relations Senior Project Advisor | DE170218 DE170219 | 10/18/2017 10/23/2017
| Office of National Nuclear Security Administration | Senior Advisor | DE180066 | 04/06/2018
| Office of Economic Impact and Diversity | Special Advisor | DE180033 | 03/12/2018
| Office of General Counsel | Senior Advisor | DE180046 | 01/31/2018
| Office of Indian Energy Policy and Programs | Deputy Director, Office of Indian Energy Policy and Programs | DE180015 | 11/29/2017
| Office of Management | Senior Congressional Correspondence Advisor | DE180068 | 04/20/2018
|  | Special Assistant | DE170207 | 08/30/2017
| Office of Policy | Senior Analyst for Energy Security | DE180002 | 10/23/2017
| Office of Public Affairs | Digital Director | DE180028 | 01/30/2018
|  | Associate Deputy Press Secretary | DE170191 | 03/01/2018
|  | Special Assistant | DE180077 | 05/16/2018
|  | Principal Deputy Press Secretary | DE180123 | 06/18/2018
|  | Deputy Press Secretary | DE170184 | 07/18/2017
|  | Writer-Editor (Chief Speechwriter) | DE170203 | 08/30/2017
|  | Director of Strategic Communications and Messaging | DE170221 | 09/20/2017
| Office of Scheduling and Advance | Scheduler (2) | DE180049 | 02/02/2018
|  |  | DE170185 | 07/21/2017
|  | Special Assistant | DE170198 | 07/26/2017
|  | Director of Advance | DE170200 | 08/10/2017
|  | Advance Lead | DE170215 | 09/07/2017
| Office of Science | Special Advisor (2) | DE170211 | 09/22/2017
|  |  | DE170210 | 09/26/2017
|  | Physical Scientist (Senior Advisor) | DE180016 | 11/29/2017
| Office of the Chief Financial Officer | Special Assistant | DE180067 | 04/20/2018
|  | Senior Advisor | DE180087 | 06/08/2018
| Office of the Chief Information Officer | Special Assistant | DE170201 | 09/07/2017
| Office of the Deputy Secretary | Special Advisor (2) | DE170179 | 07/21/2017
|  |  | DE170196 | 08/08/2017
| Office of the Secretary | Senior Support Specialist | DE180043 | 01/23/2018
|  | Special Advisor | DE180034 | 02/20/2018
|  | Special Assistant (3) | DE180071 | 04/27/2018
|  |  | DE180118 | 06/21/2018
|  |  | DE170227 | 10/06/2017
|  | White House Liaison | DE170160 | 09/12/2017
| Office of the Secretary of Energy Advisory Board | Deputy Director, Office of Secretarial Boards and Councils | DE180029 | 01/23/2018
|  | Director, Office of Secretarial Boards and Councils | DE180006 | 11/02/2017
| Office of the Under Secretary | Senior Advisor | DE180023 | 01/26/2018
|  | Scheduler | DE180032 | 01/31/2018
|  | Chief of Staff | DE180012 | 11/09/2017
|  | Special Assistant | DE180014 | 11/20/2017
| Under Secretary for Science | Senior Advisor | DE180048 | 02/22/2018
ENVIRONMENTAL PROTECTION AGENCY | Office of Public Affairs | Press Secretary (2) | EP180004 EP180006 | 11/09/2017 11/20/2017
| Office of Public Engagement and Environmental Education | Associate Administrator for the Office of Public Engagement and Environmental Education | EP170082 | 08/09/2017
| Office of the Administrator | Deputy Director for Scheduling and Advance | EP180002 | 10/20/2017
|  | Director of Scheduling and Advance | EP170074 | 07/05/2017
|  | Senior Advisor for Agriculture Policy | EP180001 | 10/23/2017
|  | Senior Advisor for Water and Cross-Cutting Initiatives | EP170073 | 07/05/2017
|  | Special Assistant (2) | EP170076 | 07/13/2017
|  |  | EP180003 | 10/17/2017
|  | Special Assistant for Scheduling and Advance | EP170075 | 07/13/2017
| Office of the Assistant Administrator for Land and Emergency Management | Senior Counsel for Land and Emergency Management | EP180021 | 12/20/2017
| Office of the Associate Administrator for Congressional and Intergovernmental Relations | Special Advisor Special Advisor for Office of Congressional and Intergovernmental Relations | EP180026 EP180059 | 03/01/2018 06/13/2018
|  | Special Assistant | EP170078 | 07/13/2017
|  | Special Assistant for Congressional Relations | EP170063 | 07/06/2017
|  | Special Assistant for the Office of Congressional and Intergovernmental Relations | EP180067 | 06/21/2018
| Office of the Chief Financial Officer | Special Advisor for Budgets and Audits | EP180013 | 11/09/2017
| Office of the General Counsel | Senior Counsel | EP170097 | 09/12/2017
|  | Deputy General Counsel | EP170095 | 09/14/2017
| Region X—Seattle, Washington | Senior Advisor for Public Engagement | EP180008 | 11/29/2017
| Region II—New York, New York | Special Assistant | EP180015 | 11/29/2017
| Region VII—Lenexa, Kansas | Deputy Regional Administrator | EP170093 | 09/22/2017
| Region VIII—Denver, Colorado | Attorney-Adviser (General) | EP180070 | 06/13/2018
| Region IX—San Francisco, California | Senior Advisor | EP180061 | 05/10/2018
EXPORT-IMPORT BANK | Office of Communications | Senior Vice President for Communications | EB180003 | 12/08/2017
| Office of the Chairman | Financial Advisor | EB170015 | 07/21/2017
|  | Senior Advisor | EB170019 | 07/21/2017
|  | Advisor | EB170005 | 07/25/2017
|  | Senior Advisor for Governmental Affairs | EB180002 | 11/20/2017
| Office of the General Counsel | Senior Vice President and General Counsel | EB180004 | 01/31/2018
FEDERAL DEPOSIT INSURANCE CORPORATION | Federal Deposit Insurance Corporation | Deputy for External Affairs | FD180002 | 06/22/2018
FEDERAL ENERGY REGULATORY COMMISSION | Office of the Chairman | Confidential Assistant | DR170007 | 08/28/2017
FEDERAL TRADE COMMISSION | Office of the Chairman | Director, Office of Policy Planning | FT180001 | 03/29/2018
|  | Director, Office of Public Affairs | FT180002 | 03/29/2018
|  | Economist | FT180004 | 05/02/2018
|  | Technology Advisor | FT180008 | 06/04/2018
GENERAL SERVICES ADMINISTRATION | Office of Federal Acquisition Service | Confidential Assistant Executive Director | GS180008 GS170045 | 01/16/2018 09/01/2017
| Great Lakes Region | Senior Advisor | GS170036 | 08/04/2017
| Northwest/Arctic Region | Senior Advisor for Technology and to the Regional Administrator | GS180026 | 04/06/2018
| Office of Administrative Services | Director, Office of Accountability and Transparency | GS180033 | 05/24/2018
| Office of Congressional and Intergovernmental Affairs | Communications Advisor Deputy Associate Administrator for Congressional and Intergovernmental Affairs | GS170044 GS180005 | 07/31/2017 11/20/2017
| Office of General Counsel | Counsel | GS180025 | 04/16/2018
| Office of Governmentwide Policy | Senior Advisor for Governmentwide Policy | GS170050 | 09/06/2017
| Office of Strategic Communications | Press Secretary and Deputy Associate Administrator for Media Affairs | GS180031 | 05/09/2018
| Office of the Administrator | Confidential Assistant | GS180023 | 03/13/2018
|  | Special Assistant | GS170048 | 08/30/2017
|  | White House Liaison | GS180003 | 11/13/2017
| Office of Regional Administrators | Senior Advisor | GS180015 | 01/29/2018
|  | Special Assistant | GS180006 | 12/21/2017
| Office of the Heartland Region | Senior Advisor (2) | GS180001 | 01/16/2018
|  |  | GS180004 | 11/22/2017
DEPARTMENT OF HEALTH AND HUMAN SERVICES | Office of the Administration for Children and Families | Policy Advisor (3) | DH180059 DH180053 | 03/06/2018 04/04/2018
|  |  | DH170306 | 08/04/2017
|  | Advisor (2) | DH180134 | 05/09/2018
|  |  | DH180145 | 05/24/2018
|  | Confidential Assistant | DH180164 | 06/13/2018
| Office of the Administration for Community Living | Policy Advisor | DH180063 | 04/06/2018
| Office of the Center for Consumer Information and Insurance Oversight | Policy Advisor Senior Advisor | DH180082 DH170342 | 03/08/2018 10/30/2017
| Office of the Centers for Disease Control and Prevention | Deputy Chief of Staff | DH180114 | 04/27/2018
| Office of the Centers for Medicare and Medicaid Services | Senior Advisor for Medicare Special Assistant | DH180064 DH180088 | 03/06/2018 03/23/2018
|  | Director of Strategic Communications | DH180106 | 04/06/2018
|  | Advisor for Medicare | DH180178 | 06/08/2018
|  | Policy Advisor | DH170320 | 08/22/2017
|  | Senior Advisor | DH170309 | 09/06/2017
|  | Director of Strategic Communications | DH180025 | 12/20/2017
| Office of Food and Drug Administration | Senior Advisor (2) | DH180144 DH180004 | 05/24/2018 11/07/2017
| Office of Health Resources and Services Administration Office of the Administrator | Policy Advisor | DH170346 | 10/13/2017
| Office of Indian Health Service | Senior Advisor | DH180054 | 03/06/2018
|  | Senior Advisor, Indian Health Service | DH170299 | 07/20/2017
| Office for Civil Rights | Senior Advisor for Conscience Protection | DH180065 | 03/06/2018
|  | Senior Advisor | DH170343 | 10/24/2017
| Office of Communications, Administration for Children and Families | Senior Director, Communications and Media | DH170289 | 07/07/2017
| Office of Global Affairs | Senior Policy Advisor | DH180133 | 05/08/2018
|  | Chief of Staff | DH170307 | 08/25/2017
| Office of Intergovernmental and External Affairs | Advisor for External Affairs Regional Director Philadelphia Region III | DH170308 DH180042 | 08/25/2017 02/06/2018
|  | Regional Director, Boston, Massachusetts, Region I | DH180023 | 12/15/2017
|  | Regional Director, Chicago, Illinois-Region V | DH180011 | 11/07/2017
|  | Regional Director, Denver, Colorado, Region VIII | DH170247 | 09/29/2017
|  | Regional Director, Kansas City, Missouri, Region VII | DH170246 | 10/20/2017
|  | Regional Director, San Francisco, California, Region IX | DH180131 | 05/14/2018
|  | Senior Advisor | DH180092 | 04/16/2018
|  | Special Assistant | DH180162 | 06/08/2018
| Office of Refugee Resettlement/Office of the Director | Policy Advisor | DH170339 | 10/17/2017
| Office of the Administrator | Senior Advisor (Substance Abuse) | DH170301 | 07/28/2017
| Office of the Assistant Secretary for Financial Resources | Deputy Assistant Secretary, Congressional Relations | DH180168 | 06/18/2018
|  | Director of Strategic Projects and Policy Initiatives (2) | DH180124 DH180026 | 04/27/2018 12/15/2017
| Office of the Assistant Secretary for Health | Advisor Deputy Chief of Staff (2) | DH180086 DH180051 | 03/08/2018 02/12/2018
|  |  | DH180010 | 11/01/2017
|  | Director of Communications | DH170282 | 07/07/2017
|  | Executive Director, President's Council on Fitness, Sports, and Nutrition | DH180057 | 03/06/2018
|  | Senior Policy Advisor | DH180103 | 03/29/2018
|  | Special Advisor | DH170277 | 08/02/2017
| Office of the Assistant Secretary for Legislation | Advisor (2) | DH180141 DH180007 | 05/25/2018 11/03/2017
|  | Policy Advisor | DH180009 | 10/31/2017
|  | Senior Advisor | DH180084 | 03/22/2018
| Office of the Assistant Secretary for Public Affairs | Assistant Speechwriter Deputy Director of Communications | DH180078 DH180016 | 03/27/2018 11/29/2017
|  | Deputy Director of Speechwriting and Senior Advisor | DH180036 | 12/21/2017
|  | Director of Communications | DH180072 | 03/19/2018
|  | Director of Digital Media | DH180158 | 06/11/2018
|  | Director of Speechwriting | DH180033 | 01/08/2018
|  | Director, Speechwriting and Editorial Services | DH180153 | 05/23/2018
|  | Policy Advisor | DH180002 | 10/13/2017
|  | Press Assistant (Regional Media) | DH170316 | 08/28/2017
|  | Press Secretary | DH180154 | 05/24/2018
|  | Senior Advisor | DH170333 | 09/26/2017
|  | Senior Advisor and National Spokesperson | DH180108 | 04/04/2018
| Office of the Deputy Secretary | Assistant | DH180038 | 01/16/2018
| Office of the General Counsel | Associate Deputy General Counsel (2) | DH180049 DH180163 | 05/08/2018 06/13/2018
|  | Advisor and Legal Counsel (2) | DH170300 | 07/28/2017
|  |  | DH170334 | 09/12/2017
|  | Assistant | DH170327 | 10/23/2017
| Office of the Secretary | Advisor (2) | DH180095 | 03/29/2018
|  |  | DH180104 | 04/17/2018
|  | Advisor, Scheduling Operations | DH170270 | 08/02/2017
|  | Deputy Director of Advance | DH170302 | 08/09/2017
|  | Deputy Director of Scheduling | DH180128 | 04/30/2018
|  | Director of Advance | DH180166 | 06/21/2018
|  | Director of Scheduling and Advance | DH170294 | 08/02/2017
|  | Policy Advisor (4) | DH180123 | 04/20/2018
|  |  | DH180175 | 06/08/2018
|  |  | DH180176 | 06/11/2018
|  |  | DH180177 | 06/13/2018
|  | Policy Advisor for Public Health and Science | DH170288 | 07/05/2017
|  | Senior Advance Representative | DH180150 | 05/24/2018
|  | Special Assistant (5) | DH180024 | 01/23/2018
|  |  | DH180132 | 04/23/2018
|  |  | DH180160 | 06/01/2018
|  |  | DH180126 | 06/08/2018
|  |  | DH170324 | 09/11/2017
|  | Special Assistant for Advance | DH180034 | 12/18/2017
|  | Trip Coordinator | DH170271 | 08/02/2017
| Office of Substance Abuse and Mental Health Services Administration | Director of Communications | DH180112 | 04/06/2018
DEPARTMENT OF HOMELAND SECURITY | Domestic Nuclear Detection Office | Program Analyst Special Assistant | DM170253 DM170269 | 08/17/2017 08/30/2017
| Federal Emergency Management Agency | Confidential Assistant Director, Center for Faith-Based and Neighborhood Partnerships | DM180067 DM180111 | 01/30/2018 04/10/2018
|  | Director, Individual and Community Preparedness | DM180098 | 02/20/2018
|  | Press Secretary | DM170275 | 08/29/2017
|  | Special Assistant (2) | DM180069 | 01/30/2018
|  |  | DM180147 | 04/06/2018
| Office of Assistant Secretary for Legislative Affairs | Director, Legislative Affairs Confidential Assistant for Legislative Affairs | DM180058 DM180195 | 01/30/2018 05/14/2018
|  | Confidential Assistant | DM170236 | 07/31/2017
| Office of Countering Weapons of Mass Destruction | Director for Countering Weapons of Mass Destruction Policy and Plans | DM180119 | 03/16/2018
| Office of Partnership and Engagement | Homeland Security Advisory Council and Campaigns Coordinator | DM180050 | 01/31/2018
|  | Law Enforcement Liaison | DM180092 | 02/14/2018
|  | Business Liaison | DM170284 | 09/26/2017
| Office of the Assistant Secretary for Intergovernmental Affairs | Confidential Assistant (2) | DM170239 DM170240 | 07/31/2017 07/31/2017
| Office of the Assistant Secretary for Policy | Confidential Assistant Special Assistant | DM180013 DM180015 | 11/01/2017 11/02/2017
| Office of the Assistant Secretary for Public Affairs | Assistant Press Secretary (2) | DM180104 DM170274 | 02/27/2018 09/28/2017
|  | Deputy Press Secretary (2) | DM180231 | 06/19/2018
|  |  | DM170245 | 08/04/2017
|  | Deputy Speechwriter | DM170278 | 09/28/2017
|  | Digital Director | DM180043 | 01/05/2018
|  | Director of Digital Strategy | DM180150 | 04/06/2018
|  | Press Assistant (2) | DM180083 DM180124 | 02/12/2018 03/16/2018
| Office of the Assistant Secretary for Public Affairs | Assistant Press Secretary | DM180025 | 11/01/2017
| Office of the Chief of Staff | Advance Representative | DM180021 | 11/09/2017
|  | Confidential Assistant (3) | DM180159 | 04/11/2018
|  |  | DM170264 | 08/29/2017
|  |  | DM170297 | 10/24/2017
|  | Deputy Director of Advance | DM180037 | 01/05/2018
|  | Deputy White House Liaison | DM180109 | 03/13/2018
|  | Special Assistant | DM180087 | 01/31/2018
| Office of the Executive Secretariat | Briefing Book Coordinator | DM180076 | 01/31/2018
|  | Senior Advisor | DM180200 | 05/09/2018
|  | Briefing Book Coordinator | DM170249 | 07/27/2017
| Office of the General Counsel | Oversight Counsel | DM170260 | 08/29/2017
| Office of the Secretary | Advance Representative | DM180052 | 01/30/2018
|  | Executive Director, Homeland Security Advisory Council | DM170247 | 07/27/2017
| Office of the Under Secretary for National Protection and Programs Directorate | Coordinator of Strategic Communications Director of Public Affairs | DM180068 DM180097 | 01/31/2018 03/06/2018
|  | Legislative Advisor | DM180172 | 05/08/2018
|  | Policy Advisor | DM180070 | 01/30/2018
|  | Special Assistant | DM180060 | 01/23/2018
| Office of United States Citizenship and Immigration Services | Senior Advisor Senior Policy Advisor | DM180055 DM170277 | 01/30/2018 09/28/2017
|  | Special Assistant (2) | DM180044 | 01/30/2018
|  |  | DM170287 | 10/05/2017
| Office of United States Customs and Border Protection | Deputy Chief of Staff Special Assistant | DM180091 DM180102 | 02/21/2018 02/28/2018
|  | Staff Assistant | DM180153 | 04/11/2018
|  | Press Secretary | DM170215 | 08/11/2017
| Office of United States Immigration and Customs Enforcement | Press Assistant Special Assistant | DM180020 DM180047 | 01/05/2018 01/18/2018
DEPARTMENT OF HOUSING AND URBAN DEVELOPMENT | Office of Community Planning and Development | Senior Advisor Special Policy Advisor | DU180035 DU180037 | 01/18/2018 01/31/2018
|  | Deputy Assistant Secretary for Economic Development | DU170180 | 09/19/2017
| Office of Congressional and Intergovernmental Relations | Advisor for Intergovernmental Relations | DU180042 | 03/13/2018
|  | Congressional Relations Specialist (2) | DU180062 DU180063 | 04/06/2018 06/05/2018
|  | Deputy Assistant Secretary for Congressional Relations | DU180051 | 03/19/2018
|  | Deputy Assistant Secretary for Intergovernmental Relations | DU170126 | 08/15/2017
| Office of Fair Housing and Equal Opportunity | Special Assistant | DU170159 | 08/04/2017
| Office of Faith-Based and Community Initiatives | Director of Faith Based | DU170158 | 08/04/2017
| Office of Field Policy and Management | Senior Advisor Regional Administrator—Region I | DU170173 DU170176 | 08/18/2017 09/06/2017
|  | Regional Administrator (4) | DU170177 | 09/14/2017
|  |  | DU180004 | 10/06/2017
|  |  | DU180008 | 11/09/2017
|  |  | DU180007 | 12/08/2017
| Office of Housing | Advisor | DU180050 | 04/16/2018
|  | Policy Advisor | DU180082 | 06/21/2018
|  | Special Assistant | DU180002 | 10/20/2017
| Office of Policy Development and Research | Special Policy Advisor | DU170172 | 08/17/2017
| Office of Public Affairs | Assistant Press Secretary | DU180080 | 06/13/2018
|  | Deputy Assistant Secretary for Public Affairs | DU170170 | 08/18/2017
|  | Director of Speechwriting for Program and Policy | DU180043 | 03/27/2018
|  | Press Secretary | DU180021 | 01/23/2018
| Office of Public and Indian Housing | Special Assistant | DU180020 | 01/19/2018
| Office of the Administration | Special Assistant | DU180081 | 06/21/2018
|  | Senior Advisor | DU170165 | 08/22/2017
| Office of the Chief Financial Officer | Senior Advisor | DU180072 | 06/18/2018
| Office of the Deputy Secretary | Scheduler (2) | DU180078 | 06/05/2018
|  |  | DU170161 | 08/22/2017
|  | Senior Policy Advisor | DU180022 | 01/16/2018
|  | Special Assistant | DU170160 | 08/11/2017
| Office of the General Counsel | Attorney Advisor | DU180083 | 06/25/2018
| Office of the Secretary | Policy and Programs Officer | DU180068 | 05/17/2018
|  | Senior Advisor | DU170166 | 08/18/2017
|  | Special Assistant | DU170149 | 08/04/2017
|  | Special Policy Advisor | DU170153 | 07/19/2017
DEPARTMENT OF THE INTERIOR | Office of Assistant Secretary—Fish and Wildlife and Parks | Senior Advisor | DI180050 | 04/17/2018
| Office of Assistant Secretary—Indian Affairs | Senior Advisor (2) | DI180058 DI180005 | 04/24/2018 10/23/2017
|  | Counsel | DI180010 | 11/29/2017
| Office of Assistant Secretary—Insular Areas | Senior Advisor | DI180049 | 05/25/2018
| Office of Assistant Secretary—Land and Minerals Management | Advisor (2) | DI170105 DI170106 | 07/31/2017 07/31/2017
|  | Special Assistant | DI170116 | 09/14/2017
| Office of Assistant Secretary—Policy, Management and Budget | Senior Advisor Field Coordinator | DI170115 DI180009 | 09/19/2017 11/20/2017
| Bureau of Land Management | Advisor | DI180040 | 06/08/2018
|  | Counselor | DI170097 | 07/06/2017
| Bureau of Ocean Energy Management | Advisor | DI180032 | 03/23/2018
| Bureau of Reclamation | Advisor | DI180068 | 06/21/2018
|  | Special Assistant | DI180007 | 10/30/2017
| National Park Service | Senior Advisor for Congressional and Legislative Affairs | DI180027 | 01/11/2018
| Office of the Solicitor | Attorney Advisor | DI180033 | 04/17/2018
| Secretary's Immediate Office | Advisor (2) | DI180056 | 05/09/2018
|  |  | DI170087 | 07/06/2017
|  | Counselor | DI180011 | 12/20/2017
|  | Deputy Director of Communications | DI170086 | 07/14/2017
|  | Deputy Director, External Affairs | DI180046 | 05/30/2018
|  | Deputy Press Secretary | DI180019 | 02/06/2018
|  | Deputy White House Liaison | DI180035 | 03/08/2018
|  | Director of Scheduling and Advance | DI180038 | 04/06/2018
|  | Press Secretary | DI170092 | 07/06/2017
|  | Senior Advance Representative | DI180048 | 04/20/2018
|  | Senior Advisor for Strategic Communication and Outreach | DI170114 | 09/26/2017
|  | Senior Counsel | DI180008 | 11/20/2017
|  | Senior Deputy Director, Office of Intergovernmental and External Affairs | DI170112 | 09/14/2017
|  | Special Assistant (2) | DI180006 DI180054 | 01/26/2018 05/02/2018
|  | Speechwriter | DI180034 | 03/01/2018
| Office of United States Fish and Wildlife Service | Advisor (2) | DI180021 DI170099 | 01/10/2018 09/06/2017
DEPARTMENT OF JUSTICE | Office of Antitrust Division | Counsel (2) | DJ180049 | 01/31/2018
|  |  | DJ170152 | 07/31/2017
| Office of Civil Division | Counsel (3) | DJ180052 | 01/23/2018
|  |  | DJ170153 | 07/21/2017
|  |  | DJ170154 | 08/04/2017
|  | Senior Counsel | DJ170187 | 09/28/2017
| Office of the Civil Rights Division | Counsel (2) | DJ170130 | 07/07/2017
|  |  | DJ170128 | 07/17/2017
|  | Chief of Staff and Counsel | DJ170180 | 10/17/2017
|  | Senior Counsel | DJ170173 | 11/02/2017
| Department of Justice | Chief of Staff and Counsel | DJ180037 | 01/02/2018
| Office of Environment and Natural Resources Division | Chief of Staff and Counsel | DJ180032 | 01/02/2018
| Office of National Security Division | Counsel | DJ180003 | 11/09/2017
| Office of Justice Programs | Senior Advisor (2) | DJ180042 | 03/23/2018
|  |  | DJ170177 | 10/18/2017
|  | Confidential Assistant | DJ180019 | 11/17/2017
| Office of Legal Policy | Chief of Staff and Counsel | DJ170171 | 10/23/2017
|  | Counsel (3) | DJ170179 | 10/20/2017
|  |  | DJ180004 | 10/24/2017
|  |  | DJ180027 | 11/20/2017
| Office of Legislative Affairs | General Attorney | DJ180058 | 03/08/2018
|  |  | DJ180059 | 03/08/2018
|  | Research Assistant | DJ180099 | 06/21/2018
|  | Attorney Advisor and Intergovernmental Liaison | DJ180024 | 11/22/2017
| Office of Public Affairs | Program Event Press Specialist | DJ180061 | 03/28/2018
|  | Media Affairs Specialist | DJ180036 | 12/12/2017
| Office of the Associate Attorney General | Confidential Assistant (2) | DJ180044 DJ170166 | 01/23/2018 09/06/2017
|  | Counsel | DJ170129 | 07/06/2017
| Office of the Attorney General | Confidential Assistant | DJ180028 | 01/03/2018
|  | Senior Policy Advisor | DJ180071 | 03/22/2018
|  | Special Assistant (3) | DJ180100 | 05/25/2018
|  |  | DJ180101 | 06/13/2018
|  |  | DJ180025 | 11/09/2017
|  | White House Liaison | DJ170172 | 09/15/2017
DEPARTMENT OF LABOR | Bureau of International Labor Affairs | Special Assistant | DL170122 | 10/12/2017
| Office of Employee Benefits Security Administration | Senior Advisor | DL170119 | 10/03/2017
| Office of Employment and Training Administration | Chief of Staff Counsel | DL170090 DL180097 | 09/06/2017 05/14/2018
|  | Senior Policy Advisor (4) | DL180047 | 01/31/2018
|  |  | DL180101 | 06/08/2018
|  |  | DL180015 | 10/24/2017
|  |  | DL180009 | 11/13/2017
|  | Special Assistant | DL180062 | 04/06/2018
| Office of Mine Safety and Health Administration | Chief of Staff Senior Advisor (2) | DL180061 DL180099 | 04/27/2018 06/08/2018
|  |  | DL170117 | 10/12/2017
| Office of Occupational Safety and Health Administration | Special Assistant | DL180087 | 05/14/2018
| Office of Congressional and Intergovernmental Affairs | Chief of Staff Confidential Assistant | DL180014 DL180017 | 11/09/2017 11/29/2017
|  | Legislative Officer (3) | DL180044 | 01/31/2018
|  |  | DL170097 | 09/08/2017
|  |  | DL170118 | 10/03/2017
|  | Senior Legislative Officer (2) | DL170099 | 09/14/2017
|  |  | DL170107 | 09/22/2017
| Office of Disability Employment Policy | Senior Advisor | DL170115 | 09/19/2017
| Office of Federal Contract Compliance Programs | Senior Advisor | DL170102 | 11/09/2017
| Office of Labor-Management Standards | Senior Policy Advisor | DL180096 | 06/01/2018
| Office of Public Affairs | Communications Director (2) | DL180106 | 06/14/2018
|  |  | DL170078 | 08/30/2017
|  | Deputy Press Secretary | DL180098 | 06/08/2018
|  | Press Assistant | DL180057 | 03/27/2018
|  | Senior Advisor for Digital Strategy | DL180054 | 03/22/2018
|  | Senior Speechwriter | DL180018 | 12/20/2017
|  | Staff Assistant | DL170083 | 08/30/2017
| Office of Public Liaison | Special Assistant | DL180053 | 03/27/2018
|  | Public Liaison | DL180030 | 12/20/2017
| Office of the Assistant Secretary for Administration and Management | Senior Advisor Special Assistant (2) | DL180024 DL180046 | 12/20/2017 01/31/2018
|  |  | DL180027 | 12/21/2017
| Office of the Assistant Secretary for Policy | Counsel and Policy Advisor Policy Advisor | DL180085 DL170082 | 06/13/2018 08/09/2017
|  | Senior Counsel and Policy Advisor | DL180064 | 04/16/2018
|  | Senior Policy Advisor | DL170123 | 10/12/2017
|  | Special Assistant (2) | DL170073 | 07/21/2017
|  |  | DL170106 | 09/26/2017
| Office of the Deputy Secretary | Counselor | DL180070 | 04/16/2018
|  | Confidential Assistant and Director of Scheduling | DL180077 | 04/20/2018
|  | Special Assistant | DL180095 | 06/01/2018
| Office of the Secretary | Counsel | DL170087 | 08/09/2017
|  | Director of Scheduling | DL180029 | 01/23/2018
|  | Policy Advisor | DL180045 | 01/31/2018
|  | Senior Counselor | DL170098 | 09/11/2017
|  | Special Assistant (11) | DL180079 | 04/27/2018
|  |  | DL180088 | 05/08/2018
|  |  | DL180093 | 06/08/2018
|  |  | DL180104 | 06/21/2018
|  |  | DL170075 | 07/21/2017
|  |  | DL170095 | 09/11/2017
|  |  | DL170108 | 09/22/2017
|  |  | DL170114 | 09/22/2017
|  |  | DL170125 | 10/12/2017
|  |  | DL170121 | 11/02/2017
|  |  | DL170110 | 11/09/2017
|  | Staff Assistant | DL170100 | 09/22/2017
| Office of Veterans Employment and Training Service | Chief of Staff Senior Advisor | DL180081 DL180083 | 05/08/2018 06/13/2018
| Office of Wage and Hour Division | Senior Policy Advisor | DL170074 | 08/17/2017
| Office of Women's Bureau | Chief of Staff | DL180092 | 05/14/2018
NATIONAL AERONAUTICS AND SPACE ADMINISTRATION | Office of Communications | Senior Advisor/Press Secretary Executive Assistant | NN180018 NN180019 | 04/27/2018 04/27/2018
|  | Social Media Specialist (2) | NN180033 | 06/05/2018
|  |  | NN180004 | 11/29/2017
| Office of the Administrator | Special Assistant | NN180034 | 06/05/2018
| Office of the Chief Financial Officer | Policy Analyst | NN170048 | 08/11/2017
NATIONAL CREDIT UNION ADMINISTRATION | National Credit Union Administration | Director, Public and Congressional Affairs | CU180001 | 12/01/2017
NATIONAL ENDOWMENT FOR THE ARTS | National Endowment for the Arts | Public Affairs Specialist | NA180001 | 11/20/2017
NATIONAL ENDOWMENT FOR THE HUMANITIES | National Endowment for the Humanities | Executive Assistant White House Liaison and Chairman's Strategic Scheduler | NH180002 NH170004 | 04/16/2018 07/07/2017
|  | Director of Communications | NH170005 | 08/09/2017
|  | Director of Congressional Affairs | NH170008 | 08/22/2017
|  | Senior Advisor | NH170006 | 08/24/2017
|  | Special Assistant | NH180001 | 12/06/2017
NATIONAL MEDIATION BOARD | National Mediation Board | Confidential Assistant (3) | NM180001 | 01/29/2018
|  |  | NM180004 | 01/29/2018
|  |  | NM180005 | 02/28/2018
NATIONAL TRANSPORTATION SAFETY BOARD | Office of Board Members | Communications Liaison | TB180002 | 01/02/2018
OCCUPATIONAL SAFETY AND HEALTH REVIEW COMMISSION | Office of Occupational Safety and Health Review Commission | Confidential Assistant | SH170006 | 11/09/2017
| Office of Commissioners | Counsel | SH180001 | 11/09/2017
OFFICE OF MANAGEMENT AND BUDGET | Office of Communications | Press Secretary Deputy Associate Director for Communications | BO180022 BO180023 | 05/14/2018 05/14/2018
|  | Deputy Press Secretary | BO180024 | 05/14/2018
| Office of Education, Income Maintenance and Labor Programs | Confidential Assistant | BO180020 | 05/14/2018
| Office of the General Counsel | Confidential Assistant | BO180011 | 03/19/2018
| Office of General Government Programs | Confidential Assistant | BO180013 | 04/13/2018
| Office of Health Division | Confidential Assistant | BO180018 | 05/25/2018
| Office of Legislative Affairs | Deputy for Legislative Affairs (Appropriations) | BO180014 | 04/13/2018
|  | Deputy for Legislative Affairs (House) | BO180017 | 05/08/2018
|  | Deputy for Legislative Affairs | BO180016 | 05/01/2018
|  | Legislative Analyst | BO180027 | 06/21/2018
| Office of Information and Regulatory Affairs | Confidential Assistant | BO170083 | 07/21/2017
| Office of the Director | Advisor (2) | BO170081 BO170087 | 07/10/2017 08/24/2017
|  | Confidential Assistant (2) | BO180028 BO180001 | 06/21/2018 11/14/2017
|  | Project Coordinator | BO180012 | 05/02/2018
|  | Special Assistant | BO170092 | 10/17/2017
OFFICE OF NATIONAL DRUG CONTROL POLICY | Office of Legislative Affairs | Public Affairs Specialist (Press Secretary) | QQ170010 | 08/17/2017
|  | Program Support Specialist | QQ170012 | 08/30/2017
|  | Associate Director (Legislative Affairs) | QQ170016 | 10/11/2017
| Office of Public Affairs | Public Affairs Specialist (Program Support) | QQ180004 | 03/22/2018
|  | Public Affairs Specialist (2) | QQ170015 | 09/22/2017
|  |  | QQ170017 | 10/11/2017
| Office of the Director | Senior Policy Advisor and White House Liaison | QQ180005 | 04/24/2018
| Office of the Director | Special Advisor | QQ180006 | 06/21/2018
OFFICE OF PERSONNEL MANAGEMENT | Office of Congressional, Legislative, and Intergovernmental Affairs | Legislative Director Deputy Director | PM180015 PM170050 | 03/27/2018 09/06/2017
| Office of the Director | Executive Assistant (2) | PM180008 | 02/23/2018
|  |  | PM180013 | 12/29/2017
|  | Special Assistant | PM180017 | 03/22/2018
|  | Special Assistant for Advance | PM180028 | 05/16/2018
|  | White House Liaison | PM180012 | 02/16/2018
| Office of the General Counsel | Attorney-Advisor (General) | PM180022 | 04/06/2018
|  | Senior Counsel and Advisor | PM180020 | 04/20/2018
OFFICE OF THE UNITED STATES TRADE REPRESENTATIVE | Office of Intergovernmental Affairs and Public Liaison | Deputy Assistant, United States Trade Representative for Intergovernmental Affairs and Public Engagement | TN170016 | 07/10/2017
| Office of Congressional Affairs | Sr. Director for Congressional Affairs | TN170017 | 07/31/2017
OFFICIAL RESIDENCE OF THE VICE PRESIDENT | Official Residence of the Vice President | Deputy Residence Manager | RV180001 | 04/06/2018
PRESIDENTS COMMISSION ON WHITE HOUSE FELLOWSHIPS | Presidents Commission on White House Fellowships | Assistant Director for Operations and Recruitment | WH180001 | 04/12/2018
|  | Associate Director | WH170010 | 07/07/2017
SECURITIES AND EXCHANGE COMMISSION | Office of the Chairman | Confidential Assistant Writer-Editor | SE180003 SE180004 | 02/07/2018 05/17/2018
| Office of the Division of Trading and Markets | Director, Division of Trading and Markets | SE180001 | 10/27/2017
SMALL BUSINESS ADMINISTRATION | Office of Administration | Director of Scheduling and External Affairs | SB180014 | 01/31/2018
|  | Management Support Specialist | SB180006 | 11/03/2017
|  | Special Assistant | SB180026 | 04/20/2018
|  | White House Liaison (2) | SB180013 | 01/23/2018
|  |  | SB180023 | 04/30/2018
| Office of Capital Access | Special Advisor | SB180027 | 04/27/2018
|  | Special Assistant | SB180030 | 06/08/2018
|  | Senior Advisor | SB180001 | 11/06/2017
| Office of Communications and Public Liaison | Deputy Press Secretary/Social Media Manager | SB180029 | 06/05/2018
|  | Press Secretary | SB170051 | 08/22/2017
|  | Senior Advisor | SB180008 | 11/20/2017
| Office of Congressional and Legislative Affairs | Special Advisor Legislative Assistant (2) | SB180021 SB180025 | 03/16/2018 04/02/2018
|  |  | SB180022 | 04/17/2018
| Office of Field Operations | Regional Administrator for Region X | SB170045 | 11/22/2017
|  | Regional Administrator V | SB180007 | 11/22/2017
|  | Regional Administrator, Region I | SB170066 | 12/05/2017
|  | Regional Administrator, Region II | SB180003 | 12/01/2017
|  | Regional Administrator, Region III | SB170065 | 02/01/2018
|  | Regional Administrator, Region IV | SB180016 | 02/02/2018
|  | Regional Administrator, Region VII | SB180005 | 11/22/2017
|  | Regional Administrator, Region VIII | SB180004 | 11/22/2017
|  | Senior Advisor | SB180017 | 02/20/2018
| Office of Government Contracting and Business Development | Special Advisor | SB170052 | 08/04/2017
| Office of the Administrator | Senior Advisor | SB180024 | 04/02/2018
| Office of the General Counsel | Deputy General Counsel | SB170064 | 09/29/2017
SOCIAL SECURITY ADMINISTRATION | Office of Retirement and Disability Policy | Senior Advisor | SZ180021 | 01/26/2018
| Office of the Commissioner | Confidential Assistant | SZ180022 | 03/01/2018
DEPARTMENT OF STATE | Bureau of Arms Control, Verification, and Compliance | Special Assistant | DS180006 | 11/16/2017
| Bureau of Counterterrorism | Special Assistant | DS180011 | 12/20/2017
| Bureau of Democracy, Human Rights and Labor | Special Assistant Senior Advisor | DS180042 DS180043 | 04/06/2018 05/08/2018
| Bureau of Economic and Business Affairs | Special Assistant Senior Advisor | DS180033 DS180045 | 03/20/2018 06/08/2018
| Bureau of Education and Cultural Affairs | Special Advisor | DS180041 | 04/16/2018
| Bureau of European and Eurasian Affairs | Strategic Advisor Special Assistant | DS180048 DS170149 | 05/24/2018 07/31/2017
| Bureau of International Information Programs | Special Assistant Senior Advisor | DS170203 DS180035 | 10/13/2017 03/06/2018
| Bureau of Legislative Affairs | Legislative Management Officer | DS180054 | 06/21/2018
|  | Special Assistant (3) | DS170196 | 09/07/2017
|  |  | DS170207 | 10/11/2017
|  |  | DS180004 | 11/16/2017
| Bureau of Near Eastern Affairs | Deputy Assistant Secretary | DS170205 | 11/07/2017
| Bureau of Oceans and International Environmental and Scientific Affairs | Senior Advisor | DS180044 | 05/25/2018
| Bureau of Overseas Buildings Operations | Special Assistant | DS180007 | 12/11/2017
| Bureau of Public Affairs | Deputy Assistant Secretary for Strategic Communication | DS180012 | 12/20/2017
| Office of Global Women's Issues | Special Assistant | DS180039 | 03/27/2018
| Office of Policy Planning | Senior Advisor (6) | DS180015 | 01/23/2018
|  |  | DS180031 | 03/08/2018
|  |  | DS170158 | 09/11/2017
|  |  | DS170193 | 09/19/2017
|  |  | DS170183 | 07/14/2017
|  |  | DS170209 | 09/29/2017
|  | Special Assistant (3) | DS180017 | 01/31/2018
|  |  | DS180018 | 02/02/2018
|  |  | DS180003 | 11/16/2017
|  | Staff Assistant | DS170208 | 09/29/2017
| Office of the Chief of Protocol | Staff Assistant (Visits) | DS180016 | 01/18/2018
|  | Assistant Chief of Protocol (Visits) | DS180032 | 02/02/2018
|  | Protocol Officer | DS180023 | 02/12/2018
|  | Assistant Chief of Protocol for Ceremonials | DS180025 | 03/01/2018
|  | Chief of Staff | DS180034 | 03/01/2018
|  | Protocol Officer (Visits)(2) | DS170191 DS170198 | 08/25/2017 09/08/2017
|  | Staff Assistant (Gifts) | DS170199 | 10/03/2017
| Office of the Deputy Secretary | Special Assistant | DS170190 | 08/30/2017
| Office of the Secretary | Advisor | DS180049 | 05/14/2018
|  | Special Assistant (2) | DS180020 | 01/31/2018
|  |  | DS170192 | 09/01/2017
|  | Special Assistant (Scheduler) | DS180027 | 02/02/2018
|  | Staff Assistant (Deputy Scheduler) | DS180026 | 02/16/2018
| Office of the United States Global Aids Coordinator | Chief of Staff & Chief Policy Officer Special Assistant for Congressional Relations | DS170182 DS170206 | 07/07/2017 10/18/2017
|  | Senior Data Analyst | DS180001 | 10/26/2017
| Office of the Under Secretary for Management | Advisor Special Advisor | DS170181 DS170186 | 07/14/2017 07/21/2017
|  | Special Assistant (2) | DS170135 | 08/30/2017
|  |  | DS180014 | 12/18/2017
| Office to Monitor and Combat Trafficking In Persons | Special Assistant | DS180024 | 02/06/2018
TRADE AND DEVELOPMENT AGENCY | Office of the Director | Senior Advisor | TD180001 | 01/04/2018
DEPARTMENT OF TRANSPORTATION | Office of the Administrator | Director of Governmental and Public Affairs | DT180022 | 02/22/2018
|  | Director of Governmental Affairs (2) | DT180009 DT170120 | 03/23/2018 07/07/2017
|  | Special Assistant (3) | DT170126 DT170127 DT170053 | 07/31/2017 08/10/2017 08/30/2017
| Office of the Assistant Secretary for Budget and Programs | Special Assistant | DT180032 | 03/23/2018
| Office of the Assistant Secretary for Governmental Affairs | Senior Governmental Affairs Officer (2) | DT180016 DT170141 | 04/13/2018 08/17/2017
|  | Special Assistant | DT180042 | 04/27/2018
| Office of the Assistant Secretary for Transportation Policy | Speechwriter Associate Director for Public Engagement | DT180046 DT170144 | 04/27/2018 08/09/2017
| Office of Chief Information Officer | Special Assistant | DT180037 | 03/15/2018
| Office of the Executive Secretariat | Special Assistant (2) | DT180039 | 04/16/2018
|  |  | DT170147 | 08/22/2017
| Office of the General Counsel | Legal Advisor | DT170149 | 09/28/2017
| Immediate Office of the Administrator | Director of Governmental, International and Public Affairs | DT180048 | 05/14/2018
|  | Special Assistant | DT170129 | 08/10/2017
| Office of Communications and Legislative Affairs | Director of Public Affairs | DT180020 | 02/22/2018
| Office of Public Affairs | Director of Public Affairs | DT180047 | 04/27/2018
|  | Special Assistant (3) | DT180015 | 02/27/2018
|  |  | DT180056 | 06/22/2018
|  |  | DT170124 | 08/16/2017
| Office of the Secretary | Senior Advisor for Policy | DT180054 | 06/08/2018
|  | Special Assistant | DT170154 | 10/11/2017
| Office of the Secretary | Deputy Director of Scheduling and Advance (2) | DT180027 DT180026 | 04/24/2018 01/30/2018
|  | Special Assistant (3) | DT180034 | 03/23/2018
|  |  | DT180033 | 04/13/2018
|  |  | DT170130 | 09/26/2017
|  | Special Assistant for Advance (2) | DT180035 DT180036 | 03/23/2018 03/23/2018
|  | Special Assistant for Scheduling and Advance (2) | DT180058 DT170137 | 06/21/2018 08/10/2017
|  | White House Liaison | DT170143 | 09/06/2017
DEPARTMENT OF THE TREASURY | Office of the Assistant Secretary (Legislative Affairs) | Senior Advisor | DY180034 | 01/23/2018
| Office of the Assistant Secretary (Public Affairs) | Press Assistant Senior Advisor | DY180031 DY170141 | 01/31/2018 07/14/2017
| Office of the Assistant Secretary for International Markets and Development | Special Assistant | DY180069 | 05/14/2018
| Department of the Treasury | Advance Representative | DY170142 | 07/14/2017
|  | Assistant Executive Secretary (2) | DY180012 | 01/02/2018
|  |  | DY180013 | 01/02/2018
|  | Personal Aide | DY180057 | 04/05/2018
|  | Senior Advisor (3) | DY180033 | 01/31/2018
|  |  | DY180079 | 06/13/2018
|  |  | DY180058 | 04/16/2018
|  | Special Advisor | DY180046 | 02/27/2018
|  | Special Assistant (4) | DY180076 | 06/01/2018
|  |  | DY180075 | 06/08/2018
|  |  | DY170161 | 08/17/2017
|  |  | DY170173 | 09/29/2017
| Secretary of the Treasury | Special Assistant (Advance)(2) | DY180084 | 06/14/2018
|  |  | DY180085 | 06/14/2018
UNITED STATES INTERNATIONAL TRADE COMMISSION | Office of Commissioner Broadbent | Confidential Assistant | TC170001 | 07/21/2017
DEPARTMENT OF VETERANS AFFAIRS | Office of the Assistant Secretary for Congressional and Legislative Affairs | Special Assistant | DV170063 | 07/07/2017
| Office of the Assistant Secretary for Public and Intergovernmental Affairs | Special Advisor Special Assistant/Deputy Press Secretary | DV180012 DV180013 | 01/12/2018 01/12/2018
| Office of the Secretary and Deputy | Senior Advisor for Investigations | DV180022 | 03/05/2018
|  | Special Assistant | DV180033 | 05/09/2018
|  | Senior Advisor and Veterans Service Organization Liaison | DV180034 | 06/13/2018
|  | Special Assistant Strategic Engagements | DV180037 | 06/29/2018
|  | Senior Advisor Office of Accountability and Whistleblower Protection | DV170089 | 10/03/2017
| Office of Veterans Benefits Administration | Deputy Chief of Staff | DV180036 | 06/21/2018

Authority: 5 U.S.C. 3301 and 3302; E.O. 10577, 3 CFR, 1954-1958 Comp., p.218.

Alexys Stanley,
Regulatory Affairs Analyst, Office of Personnel Management.

[FR Doc. 2019-15247 Filed 7-17-19; 8:45 am]

BILLING CODE 6325-39-P